DEPARTMENT OF HOMELAND SECURITY

Coast Guard

46 CFR Parts 401, 403, and 404

[USCG-2016-0268]

RIN 1625-AC34

Great Lakes Pilotage Rates—2017 Annual Review

AGENCY: Coast Guard, DHS.

ACTION: Notice of extension of comment period on supplemental notice of proposed rulemaking.

SUMMARY: The Coast Guard is adding an additional 30 days to the comment period on the supplemental notice of proposed rulemaking for “Great Lakes Pilotage Rates—2017 Annual Review” published in the Federal Register on April 5, 2017. We are extending the comment period to allow the public more time to comment on the proposed rulemaking. The comment period is now open through June 5, 2017.

DATES: The comment period for the proposed rule published April 5, 2017 (82 FR 16542) is extended. Comments and related material must be received by the Coast Guard on or before June 5, 2017.

ADDRESSES: You may submit comments identified by docket number USCG-2016-0268 using the Federal eRulemaking Portal at http://www.regulations.gov. See the “Public Participation and Request for Comments” portion of the SUPPLEMENTARY INFORMATION section for further instructions on submitting comments.

FOR FURTHER INFORMATION CONTACT: If you have questions about this proposed rulemaking, call or email Mr. Todd Haviland, Director, Great Lakes Pilotage, Commandant (CG-WWM-2), Coast Guard; telephone 202-372-2037, email Todd.A.Haviland@uscg.mil, or fax 202-372-1914.

SUPPLEMENTARY INFORMATION: The Coast Guard is adding an additional 30 days to the comment period on the supplemental notice of proposed rulemaking (SNPRM) for “Great Lakes Pilotage Rates—2017 Annual Review” published in the Federal Register on April 5, 2017 (82 FR 16542). We received a request to extend the comment period 60 days and to hold a public meeting. The requester cited the significance of the issues and the questions raised by the SNPRM. We do not see a need for a public meeting and believe that an additional 30 days should provide sufficient time to comment on the proposed rule. The comment period is now open through June 5, 2017.

As we stated in the summary of the SNPRM, the Coast Guard proposes to modify its calculations for hourly pilotage rates on the Great Lakes by accounting for the “weighting factor,” which is a multiplier that can increase the pilotage costs for larger vessels traversing areas in the Great Lakes by a factor of up to 1.45. While the weighting factor has existed for decades, it has never been included in any of the previous ratemaking calculations. We propose to add steps to our rate-setting methodology to adjust hourly rates downwards by an amount equal to the average weighting factor, so that when the weighting factor is applied, the cost to the shippers and the corresponding revenue generated for the pilot associations will adjust to what was originally intended. We note that until a final rule is produced, the 2016 rates will stay in effect, even if a final rule is not published by the start of the 2017 season.

Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

The SNPRM we are seeking comments on, and documents mentioned in the SNPRM as being available in the docket—including all public comments, will be in our online docket at http://www.regulations.gov and can be viewed by following that Web site's instructions. Additionally, if you go to the online docket and sign up for email alerts, you will be notified when comments are posted or a final rule is published.

Dated: May 2, 2017.
Michael D. Emerson,
Director, Marine Transportation Systems, U.S. Coast Guard.

[FR Doc. 2017-09177 Filed 5-4-17; 8:45 am]

BILLING CODE 9110-04-P